DEPARTMENT OF EDUCATION

Reopening; Eligibility Designations and Applications for Waiving Eligibility Requirements; Programs Under Parts A and F of Title III and Programs Under Title V of the Higher Education Act of 1965, as Amended (HEA)

AGENCY: Office of Postsecondary Education, Department of Education.

ACTION: Notice.

SUMMARY: The Department of Education (Department) reopens the process for designation of eligible institutions and notice inviting applications (NIA) for waivers of eligibility requirements for fiscal year (FY) 2021 due to the ongoing COVID-19 pandemic and other circumstances affecting the Nation's institutions of higher education. We are extending the deadline for the transmittal of applications until April 16, 2021. All other information in the NIA remains the same.

DATES: Deadline for Transmittal of Applications: April 16, 2021.

FOR FURTHER INFORMATION CONTACT: Jason Cottrell, Ph.D., U.S. Department of Education, 400 Maryland Avenue SW, Room 2B127, Washington, DC 20202. Telephone: (202) 453-7530 or (202) 262-1833. Email: Jason.Cottrell@ed.gov; or Christopher Smith, Institutional Service, U.S. Department of Education, 400 Maryland Avenue SW, Room 2B108, Washington, DC 20202. Telephone: (202) 453-7946 or (202) 262-7141. Email: Christopher.Smith@ed.gov.

If you use a telecommunications device for the deaf (TDD) or a text telephone (TTY), call the Federal Relay Service (FRS), toll free, at 1-800-877-8339.

SUPPLEMENTARY INFORMATION: On March 4, 2021, the Department published in the Federal Register (86 FR 12665) the NIA for waivers of eligibility requirements for FY 2021, for the following programs:

1. Programs authorized under title III, part A of the HEA: Strengthening Institutions Program (Part A SIP), Alaska Native and Native Hawaiian-Serving Institutions (Part A ANNH), Predominantly Black Institutions (Part A PBI), Native American-Serving Nontribal Institutions (Part A NASNTI), and Asian American and Native American Pacific Islander-Serving Institutions (Part A AANAPISI).

2. Programs authorized under title III, part F of the HEA: Hispanic-Serving Institutions STEM and Articulation (Part F HSI STEM and Articulation), Predominantly Black Institutions (Part F PBI), Alaska Native and Native Hawaiian-Serving Institutions (Part F ANNH), Native American-Serving Nontribal Institutions (Part F NASNTI), and Asian American and Native American Pacific Islander-Serving Institutions (Part F AANAPISI).

3. Programs authorized under title V of the HEA: Developing Hispanic-Serving Institutions (HSI) and Promoting Postbaccalaureate Opportunities for Hispanic Americans (PPOHA).

We are reopening the competition until April 16, 2021 to allow applicants more time to prepare and submit their applications due to the ongoing COVID-19 pandemic and other circumstances affecting the Nation's institutions of higher education, including multiple natural disasters around the Nation, and other localized campus hardships impacting higher education communities. All other information in the NIA remains the same.

Accessible Format: On request to one of the program contact persons listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Michelle Asha Cooper,
Acting Assistant Secretary for Postsecondary Education.

[FR Doc. 2021-07588 Filed 4-9-21; 11:15 am]

BILLING CODE 4000-01-P